DEPARTMENT OF LABOR

Employment and Training Administration

[TA-W-65,403]

Du-Co Ceramics, Saxonburg, PA; Notice of Termination of Investigation

Pursuant to Section 221 of the Trade Act of 1974, as amended, an investigation was initiated on February 26, 2009 in response to a petition filed by the United Steelworkers, Local 8042, on behalf of the workers of Du-Co Ceramics, Saxonburg, Pennsylvania.

The petitioner requested that the petition be withdrawn. Consequently, the investigation has been terminated.

Signed at Washington, DC, this 1st day of April 2009.
Richard Church,
Certifying Officer, Division of Trade Adjustment Assistance.

[FR Doc. E9-10379 Filed 5-5-09; 8:45 am]

BILLING CODE 4510-FN-P